DEPARTMENT OF HEALTH AND HUMAN SERVICES

National Institutes of Health

National Institute on Drug Abuse; Amended Notice of Meeting

Notice is hereby given of a change in the meeting of the National Advisory Council on Drug Abuse, May 22, 2002, 9 a.m. to May 23, 2002, 3:30 p.m., Neuroscience Center, National Institutes of Health, 6001 Executive Blvd., Rockville, MD, 20852 which was published in the Federal Register on April 18, 2002, Volume 67, FRN 75.

The date of the meeting has been changed to May 22, 2002. The time of the closed session will be from 9 a.m. to 11 a.m. and the open session will be from 11:15 a.m. to 3:30 p.m. The meeting is partially Closed to the public.

Dated: April 30, 2002.
LaVerne Y. Stringfield,
Director, Office of Federal Advisory Committee Policy.

[FR Doc. 02-11519 Filed 5-8-02; 8:45 am]

BILLING CODE 4140-01-M